DEPARTMENT OF COMMERCE

National Oceanic and Atmospheric Administration

Agency Information Collection Activities; Submission to the Office of Management and Budget (OMB) for Review and Approval; Comment Request; Application for Commercial Fisheries Authorization Under Section 118 of the Marine Mammal Protection Act (MMPA)

AGENCY: National Oceanic and Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 9, 2021.

ADDRESSES: Interested persons are invited to submit written comments to Adrienne Thomas, NOAA PRA Officer, at Adrienne.thomas@noaa.gov. Please reference OMB Control Number 0648-0293 in the subject line of your comments. Do not submit Confidential Business Information or otherwise sensitive or protected information.

FOR FURTHER INFORMATION CONTACT: Requests for additional information or specific questions related to collection activities should be directed to Jaclyn Taylor, National Marine Fisheries Service Office of Protected Resources, 301-427-8402 or Jaclyn.Taylor@noaa.gov.

SUPPLEMENTARY INFORMATION:

I. Abstract

National Marine Fisheries Service's (NMFS) Office of Protected Resources sponsors this information collection and is requesting renewal of the currently approved collection.

Section 118 of the Marine Mammal Protection Act requires any commercial fisherman operating in Category I and II fisheries to register for a certificate of authorization that will allow the fisherman to take marine mammals incidental to commercial fishing operations. Category I and II fisheries are those identified by NOAA as having either frequent or occasional takings of marine mammals. All states have integrated the NMFS registration process into the existing state fishery registration process and vessel owners do not need to file a separate federal registration. If applicable, vessel owners will be notified of this simplified registration process when they apply for their state or Federal permit or license. A valid certificate of authorization protects the vessel owner from prosecution under the MMPA for violation of the moratorium on taking marine mammals. The information needed to register or update a commercial fishery authorization is found at 50 CFR 229.4.

II. Method of Collection

Fishermen's information is imported directly into the Marine Mammal Authorization Program (MMAP) from their state. If they do not have a state or Federal fishery permit or license, fishermen can request a MMAP registration form (OMB No. 0648-0293) from their NMFS regional office and mail in the registration form.

III. Data

OMB Control Number: 0648-0293.

Form Number(s): None.

Type of Review: Regular submission (extension of existing information collection).

Affected Public: Individuals or households; Business or other for-profit organizations.

Estimated Number of Respondents: 100.

Estimated Time per Response: Initial registration 15 minutes.

Estimated Total Annual Burden Hours: 25 hours.

Estimated Total Annual Cost to Public: $2,555 in recordkeeping/reporting costs and application fees.

Respondent's Obligation: Mandatory.

Legal Authority: 16 U.S.C. 1361 et seq.; MMPA.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-11929 Filed 6-7-21; 8:45 am]

BILLING CODE 3510-22-P